DEPARTMENT OF JUSTICE

Notice of Lodging of Proposed Consent Decree Under the Clean Water Act

Notice is hereby given that, for a period of 30 days, the United States will receive public comments on a proposed Consent Decree in United States v. Tri-Marine Management Co. LLC, et al. (Civil Action No. 1:15-cv-0454), which was lodged with the United States District Court for the District of Hawaii on October 28, 2015.

The Complaint in this Clean Water Act case was filed against Tri-Marine Management Co., LLC, Tri-Marine Fishing Management LLC, and Cape Mendocino Fishing LP (collectively, “Tri-Marine”) concurrently with the lodging of the proposed Consent Decree. The Complaint alleges that Tri-Marine is civilly liable for violations of Section 311 of the Clean Water Act (“CWA”), 33 U.S.C. 1321. The Complaint seeks civil penalties and injunctive relief for the discharge of harmful quantities of marine diesel fuel oil into navigable waters of the United States from Tri-Marine's commercial tuna fishing vessel, the Capt. Vincent Gann, into Pago Pago Harbor in American Samoa as well as related violations of the Coast Guard's spill prevention regulations issued under the Clean Water Act. The Complaint alleges the hull of the Capt. Vincent Gann was breached during a crash in October 2014 and at least 35 barrels of marine fuel oil that was illegally stored in the bulbous bow of the vessel flowed into the water. The Complaint further alleges the illegal oil storage was done to extend the duration of the fishing voyage and allow storage of a larger catch of fish. The extra fuel oil had been stored in two of the fish holds, but the oil was transferred out of the fish holds to the bulbous bow to make room for storage of tuna in those fish holds. The Complaint further alleges the vessel was equipped with unlawful piping configurations that tied the bilge water system into the fuel system and that the extra fuel originally was loaded into the vessel using an unauthorized method of pumping fuel oil with hoses over the top of the deck into open fish holds.

Under the proposed Consent Decree, Tri-Marine will pay a civil penalty of $1,050,000 for the alleged violations. In addition to payment of the civil penalties, the Consent Decree requires Tri-Marine to perform inspections and corrective measures across its entire fleet of ten American Samoa-based vessels, including review and overhaul of all of the vessels' oil handling practices, operator certifications, independent audits, increased reporting, and the engagement of a full-time consultant or in-house personnel focused on environmental and maritime compliance.

The publication of this notice opens a period for public comment on the proposed Consent Decree. Comments should be addressed to the Assistant Attorney General, Environment and Natural Resources Division, and should refer to United States v. Tri-Marine Management Co. LLC, D.J. Ref. No. 90-5-1-1-11245. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $6.50 (25 cents per page reproduction cost) payable to the United States Treasury.

Thomas P. Carroll,
Assistant Section Chief, Environmental Enforcement Section, Environment and Natural Resources Division.

[FR Doc. 2015-28133 Filed 11-4-15; 8:45 am]

BILLING CODE 4410-15-P